AGENCY FOR INTERNATIONAL DEVELOPMENT

48 CFR Part 719

RIN 0412-AA58

Mentor-Protégé Program

AGENCY: U.S. Agency for International Development (USAID).

ACTION: Proposed rulemaking; correction.

SUMMARY: The United States Agency for International Development (USAID) is correcting the date for receiving public comments on the proposed rule published on November 22, 2006 in Vol. 71, No. 225, pp. 67518-67523. The date printed was December 8, 2006 but should read February 22, 2007.

DATES: Written comments on the proposed rulemaking at 71 FR 67518 must be received on or before February 22, 2007.

FOR FURTHER INFORMATION CONTACT: If further questions remain please contact Rockfeler P. Herisse, Ph.D. on 202-712-0064 or rherisse@usaid.gov.

Dated: December 1, 2006.
Marilyn Marton,
Director, Office of Small and Disadvantaged Business Utilization (OSDBU).

[FR Doc. E6-20782 Filed 12-6-06; 8:45 am]

BILLING CODE 6116-01-P